DEPARTMENT OF COMMERCE

National Oceanic and Atmospheric Administration

50 CFR Part 223

[Docket No. 230802-0182]

RIN 0648-BL87

Endangered and Threatened Wildlife and Plants; Proposed Protective Regulations for the Threatened Banggai Cardinalfish (Pterapogon Kauderni); Extension of Comment Period

AGENCY: National Marine Fisheries Service (NMFS), National Oceanic and Atmospheric Administration (NOAA), Commerce.

ACTION: Proposed rule; extension of comment period.

SUMMARY: We, NMFS, are extending the public comment period by 60 days for our proposed rule to promulgate protective regulations for the Banggai cardinalfish (Pterapogon kauderni). The end of the public comment period is extended from October 16, 2023, to December 15, 2023.

DATES: The comment period for the proposed rule to promulgate protective regulations for the Banggai cardinalfish under the Endangered Species Act (ESA), published on August 15, 2023 (88 FR 55431), is extended from October 16, 2023, to December 15, 2023. Comments received after December 15, 2023, may not be accepted.

A virtual public hearing on the proposed rule will be held at a later date and notice of the date and time of any such hearing will be published in the Federal Register not less than 15 days before the hearing is held.

ADDRESSES: You may submit comments, identified by NOAA-NMFS-2023-0099, by Electronic Submissions: Submit all electronic public comments via the Federal eRulemaking Portal https://www.regulations.gov and enter NOAA-NMFS-2023-0099 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All Personal Identifying Information (e.g., name, address, etc.) voluntarily submitted by the commenter may be publicly accessible. Do not submit Confidential Business Information or otherwise sensitive or protected information.

We will accept anonymous comments (enter N/A in the required fields if you wish to remain anonymous). Attachments to electronic comments will be accepted in Microsoft Word, Excel, or Adobe PDF file formats only.

FOR FURTHER INFORMATION CONTACT: Celeste Stout, NMFS, Office of Protected Resources, celeste.stout@noaa.gov, (301) 427-8436; Erin Markin, NMFS, Office of Protected Resources, erin.markin@noaa.gov, (301) 427-8416.

SUPPLEMENTARY INFORMATION: On August 15, 2023, NMFS published a proposed rule to promulgate protective regulations for the Banggai cardinalfish under the ESA (88 FR 55431). In that proposed rule, we also announced a 60-day public comment period, and an option to request a public hearing. On September 27, 2023, we received a letter requesting a public hearing be held as well as a 90-day extension to the public comment period. In response, we are extending the public comment period by another 60 days, and are accepting public comments for the proposed rule through December 15, 2023. Public comments can be submitted as described under ADDRESSES. Additionally, the date and time of any public hearing will be published in the Federal Register not less than 15 days before the hearing is held.

Authority: The authority for this action is the Endangered Species Act of 1973, as amended (16 U.S.C. 1531 et seq.).

Dated: October 11, 2023.
Samuel D. Rauch, III,
Deputy Assistant Administrator for Regulatory Programs, National Marine Fisheries Service.

[FR Doc. 2023-22821 Filed 10-12-23; 4:15 pm]

BILLING CODE 3510-22-P